DEPARTMENT OF TRANSPORTATION

Federal Aviation Administration

14 CFR Part 71

[Docket No. FAA-2022-0569; Airspace Docket No. 21-ANM-65]

RIN 2120-AA66

Modification of Class D and Class E Airspace; Idaho Falls Regional Airport, ID

AGENCY: Federal Aviation Administration (FAA), Department of Transportation (DOT).

ACTION: Final rule.

SUMMARY: This action modifies the Class D and E surface areas, the Class E airspace area designated as an extension to a Class D or Class E surface area, the Class E airspace extending upward from 700 feet above the surface, and the Class E airspace extending upward from 1,200 feet above the surface at Idaho Falls Regional Airport, ID. Additionally, this action makes administrative changes to update the airport's legal descriptions. These actions ensure the safety and management of instrument flight rule (IFR) and visual flight rule (VFR) operations at the airport.

DATES: Effective 0901 UTC, December 29, 2022. The Director of the Federal Register approves this incorporation by reference under 1 CFR part 51, subject to the annual revision of FAA Order JO 7400.11, Airspace Designations and Reporting Points, and publication of conforming amendments.

ADDRESSES: FAA Order JO 7400.11G, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Gerald DeVore II, Federal Aviation Administration, Western Service Center, Operations Support Group, 2200 S. 216th Street, Des Moines, WA 98198; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify Class D and Class E airspace at Idaho Falls Regional Airport, ID, to support IFR and VFR operations at the airport.

History

The FAA published a notice of proposed rulemaking (NPRM) in the Federal Register for FAA-2022-0569 (87 FR 38307; June 28, 2022) to modify the Class D and E surface areas, the Class E airspace area designated as an extension to a Class D or Class E surface area, the Class E airspace extending upward from 700 feet above the surface, and the Class E airspace extending upward from 1,200 feet above the surface at Idaho Falls Regional Airport, ID. Additionally, the NPRM proposed administrative changes to update the airport's legal descriptions. Interested parties were invited to participate in this rulemaking effort by submitting written comments on the proposal to the FAA. No comments were received.

Class D, Class E2, Class E4, and Class E5 airspace designations are published in paragraphs 5000, 6002, 6004, and 6005, respectively, of FAA Order JO 7400.11G, dated August 19, 2022, and effective September 15, 2022, which is incorporated by reference in 14 CFR 71.1. The Class D and Class E airspace designations listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

The FAA is amending 14 CFR part 71 by modifying Class D and E surface areas, the Class E airspace area designated as an extension to a Class D or Class E surface area, the Class E airspace extending upward from 700 feet above the surface, and the Class E airspace extending upward from 1,200 feet above the surface at Idaho Falls Regional Airport, ID.

Class D airspace is intended to contain the point at which an aircraft executing an instrument approach procedure (IAP) can be expected to descend to less than 1,000 feet above the surface. The 1,000-foot point of the VOR RWY 3 IAP is currently outside of the lateral boundary of the airport's Class D surface area. The Class D airspace is extended to the southwest to contain this point. Additionally, the exclusionary language for the nearby Eastern Idaho Regional Medical Center Heliport is modified to simplify the Idaho Falls Regional Airport's Class D legal description.

The Class E surface airspace is amended to be coincident with the Class D airspace legal description.

The Class E airspace area designated as an extension to a Class D or Class E surface area is removed southwest of the airport. The RWY 3 VOR 1,000 foot point is contained within the Class D surface area, and the airspace is no longer needed. The Class E airspace area designated as an extension to a Class D or Class E surface area northeast of the airport is reduced. The extension is used to contain the VOR RWY 21 1,000-foot point, and only a 4.8-mile width is needed.

The Class E airspace extending upward from 700 feet above the surface is removed southwest of the airport. The existing Class E airspace extending upward from 1,200 feet above the surface contains all procedure turns for the VOR RWY 3 and LOC BC RWY 3 approaches, and at least 1,500 feet exists between the highest terrain and the procedure turn altitudes. The Class E airspace area extending upward from 700 feet above the is expanded to contain procedure turns for the ILS/LOC RWY 21 IAP, as terrain exists within 1,500 feet of the procedure turn altitude. The Class E airspace area extending upward from 700 feet above the surface immediately encircling the airport is increased from a 7.5-mile radius to an 8-mile radius around the airport to more appropriately contain departures and circling approaches. The existing Class E airspace extending upward from 1,200 feet above the surface over the airport consistently overlapped with adjacent airspace, creating the potential for future airspace “traps.” The FAA has re-defined the boundaries of this area to more appropriately align it with other airspace and simplify its legal description.

Finally, the FAA is modifying several administrative portions of the Idaho Falls Airport's legal descriptions. The airport's geographic coordinates are updated to match the FAA's database. Additionally, the current Class D and Class E2 surface area legal descriptions are modified to replace the use of the phrases “Notice to Airmen” and “Airport/Facility Directive.” These phrases should read “Notice to Air Missions” and “Chart Supplement,” respectively, in both legal descriptions. Lastly, all navigational aids (NAVAID) are removed from the Class E4 and E5 legal description text headers, as they're not required to describe the airspace areas, and the removal of the NAVAIDs simplifies the legal descriptions.

Class D, Class E2, Class E4, and Class E5 airspace designations are published in paragraphs 5000, 6002, 6004, and 6005, respectively, of FAA Order JO 7400.11G, dated August 19, 2022, and effective September 15, 2022, which is incorporated by reference in 14 CFR 71.1. The Class D and Class E airspace designations listed in this document will be published subsequently in FAA Order JO 7400.11.

FAA Order JO 7400.11 is published annually and becomes effective on September 15.

Regulatory Notices and Analyses

The FAA has determined that this regulation only involves an established body of technical regulations for which frequent and routine amendments are necessary to keep them operationally current, is non-controversial, and unlikely to result in adverse or negative comments. It therefore: (1) is not a “significant regulatory action” under Executive Order 12866; (2) is not a “significant rule” under DOT Regulatory Policies and Procedures (44 FR 11034; Feb. 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, Environmental Impacts: Policies and Procedures, paragraph 5-6.5a. This airspace action is not expected to cause any potentially significant environmental impacts, and no extraordinary circumstances exist that warrant the preparation of an environmental assessment.

List of Subjects in 14 CFR Part 71

Airspace, incorporation by reference, navigation (air).

Adoption of the Amendment

In consideration of the foregoing, the FAA amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 5000 Class D Airspace.

* * * * *

ANM ID D Idaho Falls, ID [Amended]

Idaho Falls Regional Airport, ID

(Lat. 43°30′49″ N, long. 112°04′15″ W)

That airspace extending upward from the surface to and including 7,200 feet MSL within a 5.4 mile radius of the airport, and within 2.4 miles each side of the 223° bearing from the airport extending from the 5.4 mile radius to 6.6 miles southwest of the airport, excluding that airspace below 5,300 feet MSL within 1 mile each side of the 126° bearing from the airport beginning 3.4 miles southeast of the airport extending to the 5.4 mile radius of the airport. This Class D airspace area is effective during the specific dates and times established in advance by a Notice to Air Missions. The effective date and time will thereafter be continuously published in the Chart Supplement.

Paragraph 6002 Class E Airspace Designated as Surface Areas.

* * * * *

ANM ID E2 Idaho Falls, ID [Amended]

Idaho Falls Regional Airport, ID

(Lat. 43°30′49″ N, long. 112°04′15″ W)

That airspace extending upward from the surface within a 5.4 mile radius of the airport, and within 2.4 miles each side of the 223° bearing from the airport extending from the 5.4 mile radius to 6.6 miles southwest of the airport, excluding that airspace below 5,300 feet MSL within 1 mile each side of the 126° bearing from the airport beginning 3.4 miles southeast of the airport extending to the 5.4 mile radius of the airport. This Class E airspace area is effective during the specific dates and times established in advance by a Notice to Air Missions. The effective date and time will thereafter be continuously published in the Chart Supplement.

Paragraph 6004 Class E Airspace Areas Designated as an Extension to a Class D or Class E Surface Area

* * * * *

ANM ID E4 Idaho Falls, ID [Amended]

Idaho Falls Regional Airport, ID

(Lat. 43°30′49″ N, long. 112°04′15″ W)

That airspace extending upward from the surface within 2.4 miles each side of the 028° bearing from the airport extending from the Class D and Class E surface area 5.4 mile radius to 7.5 miles northeast of the airport. This Class E airspace area is effective during the specific dates and times established in advance by a Notice to Air Missions. The effective date and time will thereafter be continuously published in the Chart Supplement.

Paragraph 6005 Class E Airspace Areas Extending Upward From 700 Feet or More Above the Surface of the Earth.

* * * * *

ANM ID E5 Idaho Falls, ID [Amended]

Idaho Falls Regional Airport, ID

(Lat. 43°30′49″ N, long. 112°04′15″ W)

That airspace extending upward from 700 feet above the surface within 8 miles of the Idaho Falls Regional Airport, and that airspace 8 miles east and 9 miles west of the 032° bearing from the airport, extending from the 8 mile radius to 28 miles northeast of the airport; and that airspace extending upward from 1,200 feet above the surface within an area bounded by a line beginning at lat. 43°34′55″ N, long. 112°29′22″ W, to lat. 44°19′00″ N, long. 112°04′36″ W, to lat. 44°12′35.47″ N, long. 110°48′27.66″ W to lat. 43°26′00″ N long. 110°57′56″ W, to lat. 42°34′53″ N, long. 111°59′59″ W, to lat. 42°11′3.52″ N, long. 112°00′00″ W to lat. 42°27′00″ N long 113°22′00″ W, to lat. 42°57′33″ N long 113°32′27″ W, thence to the point of beginning.

Issued in Des Moines, Washington, on September 27, 2022.
B.G. Chew,
Group Manager, Operations Support Group, Western Service Center.

[FR Doc. 2022-21360 Filed 9-30-22; 8:45 am]

BILLING CODE 4910-13-P